DEPARTMENT OF COMMERCE

U.S. Census Bureau

Proposed Information Collection; Comment Request; 2009 American Community Survey Content

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before April 28, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Susan Schechter, U.S. Census Bureau, American Community Survey Office, Washington, DC 20233, by FAX to (303) 763-8070 or via the Internet at susan.schechter.bortner@census.gov.

SUPPLEMENTARY INFORMATION:

I. Abstract

Given the rapid demographic changes experienced in recent years and the strong expectation that such changes will continue and accelerate, the once-a-decade detailed data collection as part of a decennial census is no longer acceptable. To meet the needs and expectations of the country, the Census Bureau developed the American Community Survey. This survey collects detailed population and housing data every month and provides tabulations of these data on a yearly basis. In the past, the long-form data were collected only at the time of each decennial census. The American Community Survey allowed the Census Bureau to remove the long-form from the plans for the 2010 Census, thus reducing operational risks, improving accuracy, and providing more relevant data. After years of development and testing, the American Community Survey began full implementation in households in January 2005 and in group quarters (GQs) in January 2006.

The American Community Survey provides more timely information for critical economic planning by governments and the private sector. In the current information-based economy, federal, state, tribal, and local decision makers, as well as private business and non-governmental organizations, need current, reliable, and comparable socioeconomic data to chart the future. In 2006, the American Community Survey began publishing up-to-date profiles of American communities every year, providing policymakers, planners, and service providers in the public and private sectors this information every year—not just every ten years.

The American Community Survey will provide data at the census tract level by July 2010. These data are needed by federal agencies and others and provides assurances that long-form type data are available after the elimination of the long-form from the 2010 Census.

The Census Bureau presently plans to resubmit the American Community Survey to the Office of Management and Budget (OMB) for extended clearance with content changes.

In the 2007 American Community Survey Content Test, the Census Bureau conducted testing of a new question topic, field of bachelor's degree, identified by the National Science Foundation. Following cognitive testing, two versions with a new question on field of bachelor's degree were field-tested: Categorical and open-ended. The results of the 2007 Content Test were presented to OMB in February 2008.

In addition to the new field of degree question, the Census Bureau proposes restoration of the Duration of Vacancy question that was previously collected as part of the American Community Survey. These data will be collected on the American Community Survey Computer-assisted Personal Interview (CAPI) instrument and during Telephone Questionnaire Assistance (TQA) interviews. In addition, households that are determined to be vacant during the edit follow-up interview will be asked this question.

II. Method of Collection

The Census Bureau will mail questionnaires to households selected for the American Community Survey. For households that do not return a questionnaire, Census Bureau staff will attempt to conduct interviews via Computer-assisted Telephone Interviews (CATI) and conduct CAPI for a sub sample of non-respondents. A contact reinterview will be conducted from a small sample of respondents.

For most types of group quarters (GQs), the Census Bureau field representatives (FRs) will conduct personal interviews with respondents to complete questionnaires or, if necessary, leave questionnaires and ask respondents to complete. Information from GQ contacts will be collected via CAPI. A GQ contact reinterview will be conducted from a sample of GQs primarily through CATI. A very small percentage of the GQ reinterviews will be conducted via CAPI.

The Census Bureau staff will provide Telephone Questionnaire Assistance (TQA) and if the respondent indicates a desire to complete the survey by telephone, the TQA interviewer conducts the interview.

III. Data

OMB Control Number: 0607-0810.

Form Number: ACS-1, ACS1(SP), ACS-1 (PR), ACS-1 (PR)SP, ACS-1(GQ), ACS-1(PR(GQ), GQFQ, ACS CATI (HU), ACS CAPI (HU), ACS RI (HU), and AGQ RI.

Type of Review: Regular submission.

Affected Public: Individuals or households; business or other for-profit organizations.

Estimated Number of Respondents: Each year: 3,000,000 households; 200,000 persons in group quarters; 20,000 contacts in group quarters; 27,000 households for reinterview; and 1,500 group quarters contacts for reinterview.

Estimated Time Per Response: 38 minutes per household; 15 minutes per group quarters contact; 25 minutes per resident in group quarters; and 10 minutes per household or groups quarters contact in the reinterview samples.

Estimated Total Annual Burden Hours: 1,994,500.

Estimated Total Annual Cost: $0 (except for their time).

Respondent's Obligation: Mandatory.

Legal Authority: Title 13 U.S.C., Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 21, 2008.
Gwellnar Banks,
Management Analyst, Office of the Chief Information Officer.

[FR Doc. E8-3649 Filed 2-26-08; 8:45 am]

BILLING CODE 3510-07-P